DEPARTMENT OF TRANSPORTATION

Federal Aviation Administration

Policy Statement No. ANM-03-111-18

Installation of Transport Category Airplane Flightdeck Liquid Crystal Displays

AGENCY: Federal Aviation Administration (FAA), DOT.

ACTION: Notice of proposed policy; request for comments.

SUMMARY: The Federal Aviation Administration (FAA) announces the availability of proposed policy on installation of liquid crystal displays (LCD) on transport category airplanes.

DATES: Send your comments on or before May 15, 2003.

ADDRESSES: Address your comments to the individual identified under FOR FURTHER INFORMATION CONTACT.

FOR FURTHER INFORMATION CONTACT: Dr. John McConnell, Federal Aviation Administration, Transport Airplane Directorate, Transport Standards Staff, Airplane and Flightcrew Interface Branch, ANM-111, 1601 Lind Avenue SW., Renton, WA 98055-4056; telephone (425) 227-1365; fax (425) 227-1100; e-mail: john.mcconnell@faa.gov.

SUPPLEMENTARY INFORMATION:

Comments Invited

The proposed policy is available on the Internet at the following address: http://www.faa.gov/certification/aircraft/anminfo/devpaper.cfm. If you do not have access to the Internet, you can obtain a copy of the policy by contacting the person listed under FOR FURTHER INFORMATION CONTACT.

The FAA invites your comments on this proposed policy. We will accept your comments data, views or arguments by letter, fax or e-mail. Send your comments to the person indicated in FOR FURTHER INFORMATION CONTACT. Mark your comments, “Comments to Policy Statement No. ANM-03-111-18.”

Use the following format when preparing your comments:

• Organize your comments issue-by-issue.

• For each issue, state what specific change you are requesting to the proposed policy.

• Include justification, reasons, or data for each change you are requesting.

We also welcome comments in support of the proposed policy.

We will consider all communications received on or before the closing date for comments. We may change the proposed policy because of the comments received.

Background

The policy memorandum clarifies the FAA certification policy on the installation of liquid crystal displays. It addresses the lack of published approved criteria for LCD technology and provides guidance on performance levels that have been found to be acceptable for LCDs used as pilot displays in the flightdeck of transport category airplanes.

Issued in Renton, Washington, on April 2, 2003.
Ali Bahrami,
Acting Manager, Transport Airplane Directorate, Aircraft Certification Service.

[FR Doc. 03-9078 Filed 4-14?-03; 8:45 am]

BILLING CODE 4910-13-M